DEPARTMENT OF THE INTERIOR

U.S. Geological Survey

Agency Information Collection: Comment Request

AGENCY: United States Geological Survey (USGS), Interior.

ACTION: Notice of a new collection.

SUMMARY: To comply with the Paperwork Reduction Act of 1995 (PRA), we are notifying the public that we will submit to OMB a new information collection request (ICR) for approval of the paperwork requirements for the National Cooperative Geologic Mapping Program—EDMAP (NCGMP-EDMAP). This notice provides the public an opportunity to comment on the paperwork burden of this collection.

DATES: You must submit comment on or before September 18, 2008.

ADDRESSES: Send your comments to the IC to Phadrea Ponds, Information Collections Clearance Officer, U.S. Geological Survey, 2150-C Center Avenue, Fort Collins, CO 80525 (mail); (970) 226-9230 (fax); or pponds@usgs.gov (e-mail). Please reference Information Collection 1028-NEW, NCGMP-EDMAP.

FOR FURTHER INFORMATION CONTACT: Randall Orndorff, Associate Program Coordinator (STATEMAP and EDMAP), National Cooperative Geological Mapping Program USGS Geological Survey, 12201 Sunrise Valley Drive, MS 908 (mail); at 703-648-4316 (telephone); or rorndorff@usgs.gov(e-mail).

SUPPLEMENTARY INFORMATION:

Title: National Cooperative Geologic Mapping Program—EDMAP (NCGMP-EDMAP)

OMB Control Number: 1028-new

Abstract: EDMAP is the component of the NCGMP that trains the next generation of geologic mappers. The NCGMP allocates funds to colleges and universities in the United States and Puerto Rico through an annual competitive grant process. Every Federal dollar that is awarded is matched with university funds. Geology professors, who are skilled in geologic mapping, request EDMAP funding to support undergraduate and graduate students at their college or university in a one-year mentored geologic mapping project that focuses on a specific geographic area.

Since 1996, more than $4 million from the NCGMP has supported geologic mapping efforts of more than 600 students working with more than 214 professors at 131 universities in 44 states, the District of Columbia, and Puerto Rico. Funds for graduate projects are limited to $15,000 with undergraduate project funds limited to $7,500. These funds are used to cover field expenses and map production, but not faculty salaries. The college or university matches the EDMAP funding.

The authority for the program is listed in the National Geologic Mapping Act (Public Law 106-148).

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked.

Frequency of Collection: Annually.

Respondent's Obligation: Voluntary (necessary to receive benefits).

Estimated Number and Description of Respondents: Approximately 60 University/College Professors or faculty advisors annually.

Annual Burden Hours: 1,100 hours.

Estimated Annual Reporting and Recordkeeping “Hour” Burden: We expect to receive approximately 55 applications, taking each applicant approximately 20 hours to complete, totaling 1,100 burden hours.

Estimated Annual Reporting and Recordkeeping “Non-Hour Cost”: We have not identified any “non-hour cost” burdens associated with this collection of information.

Public Disclosure Statement: The PRA (44 U.S.C. 3501, et seq. ) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq. ) requires each agency “ * * * to provide notice * * * and otherwise consult with members of the public and affected agencies concerning each proposed collection of information * * *” Agencies must specifically solicit comments. We invite comments concerning this information collection on:

(1) Whether or not the collection of information is necessary, including whether or not the information will have practical utility;

(2) the accuracy of our estimate of the burden for this collection of information;

(3) ways to enhance the quality, utility, and clarity of the information to be collected; and

(4) ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea D. Ponds 970-226-9445.

Dated: August 13, 2008.
Randall Orndorff,
Associate Program Coordinator, National Cooperative Geographic Program.

[FR Doc. E8-19148 Filed 8-18-08; 8:45 am]

BILLING CODE 4311-AM-P